ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Tuesday and Wednesday, March 9-10, 2004, at the times and location noted below.

DATES: The schedule of events is as follows:

Tuesday, March 9, 2004

10:30 a.m.-Noon—Ad Hoc Committee on Public Outreach

1:30-2:30 p.m.—Technical Programs Committee

2:30-3:30—Planning and Budget Committee

3:30-5—Ad Hoc Committee on Passenger Vessels (closed session)

Wednesday, March 10, 2004

9-11 a.m.—Ad Hoc Committee on Passenger Vessels (closed session)

11-Noon—Ad Hoc Committee on Public Rights-of-Way (closed session)

1:30-3 p.m.—Board meeting

ADDRESSES: The meetings will be held at the Hyatt Regency Bethesda Hotel, One Bethesda Metro Center, Bethesda, MD 20814.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

Open Meeting

• Approval of the January 14, 2004, Board meeting minutes.

• Ad Hoc Committee on Public Outreach report.

• Technical Programs Committee report.

• Planning and Budget Committee report.

• Election of officers.

Closed Meeting

• Passenger Vessels Accessibility Guidelines.

• Public Rights-of-Way Accessibility Guidelines.

All meetings are accessible to persons with disabilities. Sign language interpreters and an assistive listening system are available at all meetings. Persons attending Board meetings are requested to refrain from using perfume, cologne, and other fragrances for the comfort of other participants.

Lawrence W. Roffee,
Executive Director.

[FR Doc. 04-3873 Filed 2-23-04; 8:45 am]

BILLING CODE 8150-01-P